COMMODITY FUTURES TRADING COMMISSION

Agency Information Collection Activities: Proposed Collection, Comment Request

AGENCY: Commodity Futures Trading Commission.

ACTION: Notice.

SUMMARY: The Commodity Futures Trading Commission (CFTC) is announcing an opportunity for public comment on the proposed collection of certain information by the agency. Under the Paperwork Reduction Act (“PRA”), Federal agencies are required to publish notice in the Federal Register concerning each proposed collection of information, including proposed extension of an existing collection of information, and to allow 60 days for public comment. The CFTC is requesting public comment on a proposed information collection concerning “Survey of the Costs of Bank Secrecy Act/Anti-Money Laundering Compliance” (Survey).

DATES: Comments must be submitted on or before October 6, 2025.

ADDRESSES: You may submit comments, identified by “Survey of the Costs of Bank Secrecy Act/Anti-Money Laundering Compliance (OMB Control No. 3038-XXXX)” by any of the following methods:

• The Agency's website, at https://comments.cftc.gov/. Follow the instructions for submitting comments through the website.

• Mail: Christopher Kirkpatrick, Secretary of the Commission, Commodity Futures Trading Commission, Three Lafayette Centre, 1155 21st Street NW, Washington, DC 20581.

• Hand Delivery/Courier: Same as Mail above.

Please submit your comments using only one method.

FOR FURTHER INFORMATION CONTACT: H. Adam Schwartzman, Attorney Advisor, Market Participant's Division, Commodity Futures Trading Commission, (202) 340-7236; email: aschwartzman@cftc.gov.

SUPPLEMENTARY INFORMATION: Under the PRA, 44 U.S.C. 3501 et seq., Federal agencies must obtain approval from the Office of Management and Budget (OMB) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below. An agency may not conduct or sponsor, and a person is not required to respond to, a collection of information unless it displays a currently valid OMB control number.

Title: Survey of the Costs of Bank Secrecy Act/Anti-Money Laundering Compliance (OMB Control No. 3038-XXXX). This is a request for approval of a new information collection.

Abstract: The proposed survey seeks to gather information on the direct costs incurred by CFTC-registered futures commission merchants and introducing brokers in complying with the Bank Secrecy Act (BSA) and related Anti-Money Laundering (AML) requirements. Responses will help the agency understand the financial impact of these regulations and may be used to shape deregulatory proposals consistent with the Executive Orders of the Trump administration.

With respect to the proposed collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

All comments must be submitted in English, or if not, accompanied by an English translation. Comments will be posted as received to https://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

Burden Statement: The estimated hour burden for this collection is calculated as follows:

Estimated number of respondents: 956.

Estimated number of reports per respondent: 1.

Average number of hours per report: 2.

Estimated total annual burden hours: 1912.]

There are no capital costs or operating and maintenance costs associated with this collection.

(Authority: 44 U.S.C. 3501 et seq.)

Dated: July 31, 2025.
Robert Sidman,
Deputy Secretary of the Commission.

[FR Doc. 2025-14778 Filed 8-4-25; 8:45 am]

BILLING CODE 6351-01-P